DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Solano County, California
Docket No.: FEMA-B-1200
California | Unincorporated Areas of Solano County | Sweany Creek | Approximately 375 feet upstream of the McCune Creek confluence | +64
|  |  | Approximately 930 feet upstream of Timm Road | +149
* National Geodetic Vertical Datum.
+ North American Vertical Datum.
# Depth in feet above ground.
‸ Mean Sea Level, rounded to the nearest 0.1 meter.
ADDRESSES
Unincorporated Areas of Solano County
Maps are available for inspection at the Solano County Public Works Department, 675 Texas Street, Suite 5500, Fairfield, CA 94533.
City of Colonial Heights, Virginia
Docket No.: FEMA-B-1198
Virginia | City of Colonial Heights | Old Town Creek | Approximately 0.63 mile downstream of Conduit Road | +11
|  |  | Approximately 0.48 mile upstream of the railroad | +68
* National Geodetic Vertical Datum.
+ North American Vertical Datum.
# Depth in feet above ground.
‸ Mean Sea Level, rounded to the nearest 0.1 meter.
ADDRESSES
City of Colonial Heights
Maps are available for inspection at 202 James Avenue, Colonial Heights, VA 23834.

Flooding source(s) | Location of referenced elevation | * Elevation in feet (NGVD) + Elevation in feet (NAVD) # Depth in feet above ground ‸ Elevation in meters (MSL) Modified | Communities affected
Grundy County, Illinois, and Incorporated Areas
Docket No.: FEMA-B-1104
Claypool Ditch | Approximately at Carbon Hill Road | +546 | Village of Carbon Hill.
| Approximately 0.38 mile upstream of Carbon Hill Road | +546
Des Plaines River | Approximately 1.75 miles upstream of the upstream side of the Dresden Island Lock and Dam | +510 | Unincorporated Areas of Grundy County, Village of Channahon.
| Approximately 0.1 mile upstream of Will Road extended | +510
East Fork Mazon River | Approximately 1,275 feet downstream of Rice Street | +581 | Village of East Brooklyn.
| Approximately at Rice Street | +582
Gooseberry Creek | Approximately 750 feet upstream of Old Mazon Road | +612 | Unincorporated Areas of Grundy County, Village of Dwight.
| Approximately 425 feet upstream of U.S. Route 66 | +620
Illinois River | Approximately 0.4 mile downstream of the railroad | +497 | City of Morris, Unincorporated Areas of Grundy County, Village of Channahon, Village of Seneca.
| Just downstream of the Dresden Island Lock and Dam | +507
* National Geodetic Vertical Datum.
+ North American Vertical Datum.
# Depth in feet above ground.
‸ Mean Sea Level, rounded to the nearest 0.1 meter.
ADDRESSES
City of Morris
Maps are available for inspection at City Hall, 700 North Division Street, Morris, IL 60450.
Unincorporated Areas of Grundy County
Maps are available for inspection at the Grundy County Administration Building, 1320 Union Street, Morris, IL 60450.
Village of Carbon Hill
Maps are available for inspection at the Village Hall, 695 North Holcomb Street, Carbon Hill, IL 60416.
Village of Channahon
Maps are available for inspection at the Village Hall, 24555 South Navajo Drive, Channahon, IL 60410.
Village of Dwight
Maps are available for inspection at the Dwight Public Services Complex, 209 South Prairie Avenue, Dwight, IL 60420.
Village of East Brooklyn
Maps are available for inspection at the Village Hall, 170 Monroe Street, East Brooklyn, IL 60474.
Village of Seneca
Maps are available for inspection at the Village Hall, 340 North Cash, Seneca, IL 61360.
Warrick County, Indiana, and Incorporated Areas
Docket No.: FEMA-B-7753
Kelly Ditch | Approximately 900 feet upstream of the confluence with Cypress Creek | +388 | City of Boonville, Unincorporated Areas of Warrick County.
| Approximately 1,650 feet upstream of Baker Road | +398
Summer Pecka Ditch | Approximately 2,500 feet downstream of Anderson Road | +383 | Unincorporated Areas of Warrick County.
| Approximately 3,900 feet upstream of Martin Drive | +395
* National Geodetic Vertical Datum.
+ North American Vertical Datum.
# Depth in feet above ground.
‸ Mean Sea Level, rounded to the nearest 0.1 meter.
ADDRESSES
City of Boonville
Maps are available for inspection at 135 South Second Street, Boonville, IN 47601.
Unincorporated Areas of Warrick County
Maps are available for inspection at the Warrick County Historic Courthouse, 107 West Locust Street, Room 201, Boonville, IN 47601.
Lawrence County, Missouri, and Incorporated Areas
Docket No.: FEMA-B-1105
Chapel Drain | Approximately 50 feet upstream of Farm Road 1090 | +1335 | Unincorporated Areas of Lawrence County.
| Approximately 0.71 mile upstream of Farm Road 1090 | +1379
Clear Creek | Approximately 250 feet downstream of Farm Road 1050 | +1233 | Unincorporated Areas of Lawrence County.
| Just upstream of the Barry County boundary | +1243
Kelly Creek Tributary | Approximately 0.45 mile downstream of Farm Road 2230 | +1365 | Unincorporated Areas of Lawrence County.
| Approximately 100 feet upstream of Farm Road 2230 | +1401
Tributary No. 1 | Approximately 50 feet upstream of the Unnamed Tributary confluence | +1326 | Unincorporated Areas of Lawrence County.
| Approximately 275 feet upstream of State Highway 37 | +1333
Tributary 2 | Just upstream of the Unnamed Tributary confluence | +1357 | Unincorporated Areas of Lawrence County.
| Approximately 900 feet upstream of State Route H | +1377
Unnamed Tributary | Approximately 1,675 feet downstream of the Barry County boundary | +1277 | Unincorporated Areas of Lawrence County.
| Approximately 550 feet upstream of Farm Road 2230 | +1383
Unnamed Tributary Number 1 | Approximately 200 feet downstream of Washington Avenue | +1372 | City of Aurora.
| Approximately 525 feet upstream of Union Street | +1406
Unnamed Tributary Number 2 | Approximately 600 feet upstream of South Street | +1359 | City of Aurora.
| Approximately 100 feet upstream of Prospect Street | +1402
Unnamed Tributary Number 3 | Approximately 250 feet upstream of the Unnamed Tributary Number 2 confluence | +1376 | City of Aurora.
| At Tyler Drive | +1390
Unnamed Tributary Number 4 | Approximately 215 feet upstream of Saint Louis Street | +1361 | City of Aurora.
| Approximately 650 feet upstream of Lincoln Avenue | +1381
* National Geodetic Vertical Datum.
+ North American Vertical Datum.
# Depth in feet above ground.
‸ Mean Sea Level, rounded to the nearest 0.1 meter.
ADDRESSES
City of Aurora
Maps are available for inspection at City Hall, 2 West Pleasant Street, Aurora, MO 65605.
Unincorporated Areas of Lawrence County
Maps are available for inspection at the Lawrence County Courthouse, 1 East Courthouse Square, Mt. Vernon, MO 65712.
Madison County, Missouri, and Incorporated Areas
Docket No.: FEMA-B-1142 and FEMA-B-1170
Little Saint Francis River | Approximately 675 feet downstream of U.S. Route 67 | +689 | City of Fredericktown, Unincorporated Areas of Madison County.
| Approximately 1.3 miles downstream of County Road 220 | +743
Little Saint Francis River Tributary 1 | At the confluence with the Little Saint Francis River | +700 | City of Fredericktown, Unincorporated Areas of Madison County.
| Just downstream of County Road 218 | +769
Mill Creek (backwater effects from Little Saint Francis River) | From the confluence with the Little Saint Francis River to approximately 665 feet downstream of County Road 500 | +690 | Unincorporated Areas of Madison County.
Saline Creek | At the confluence with the Little Saint Francis River | +703 | Unincorporated Areas of Madison County.
| Approximately 550 feet downstream of the confluence with Goose Creek | +736
Spiva Creek (backwater effects from Little Saint Francis River) | From the confluence with the Little Saint Francis River to just upstream of County Road 201 | +692 | Unincorporated Areas of Madison County.
Tollar Branch | At the confluence with Saline Creek | +713 | City of Fredericktown, Unincorporated Areas of Madison County, Village of Cobalt.
| Approximately 1,310 feet upstream of Mine LaMotte Street | +788
Village Creek | At the confluence with the Little Saint Francis River | +704 | City of Fredericktown, City of Junction City, Unincorporated Areas of Madison County.
| Approximately 550 feet upstream of Catherine Mine Road | +710
* National Geodetic Vertical Datum.
+ North American Vertical Datum.
# Depth in feet above ground.
‸ Mean Sea Level, rounded to the nearest 0.1 meter.
ADDRESSES
City of Fredericktown
Maps are available for inspection at City Hall, 124 West Main Street, Fredericktown, MO 63645.
City of Junction City
Maps are available for inspection at the Madison County Courthouse, 1 Courthouse Square, Fredericktown, MO 63645.
Unincorporated Areas of Madison County
Maps are available for inspection at the Madison County Courthouse, 1 Courthouse Square, Fredericktown, MO 63645.
Village of Cobalt
Maps are available for inspection at the Madison County Courthouse, 1 Courthouse Square, Fredericktown, MO 63645.
Dauphin County, Pennsylvania (All Jurisdictions)
Docket No.: FEMA-B-1100 and FEMA-B-1193
Beaver Creek (Upper Reach) | Approximately 1,540 feet below Devonshire Heights Road | +381 | Township of Lower Paxton.
| Approximately 160 feet above the confluence with Beaver Creek Tributary A | +432
Mahantango Creek | Approximately 1.88 miles upstream of Malta Road | +434 | Township of Mifflin.
| Approximately 0.38 mile downstream of Market Street | +470
Paxton Creek | Approximately 2,285 feet above the confluence with Paxton Tributary | +321 | City of Harrisburg.
| Approximately 4,000 feet above confluence with the centerline of the Susquehanna River | +325
Rattling Creek | Approximately 185 feet upstream of Glen Park Road | +762 | Township of Jackson.
| Approximately 630 feet upstream of Glen Park Road | +768
Susquehanna River | At Whitehouse Lane (295 feet northeast of Cherry Avenue) | +304 | Borough of Steelton.
| Approximately 840 feet northwest of the intersection of Franklin Street and the railroad | +313
Swatara Creek | Approximately 2,100 feet downstream of the confluence with Bow Creek | +348 | Township of East Hanover.
| At the Lebanon County boundary | +359
Wiconisco Creek (Upper Reach) | Approximately 1.26 miles downstream of the Rattling Creek confluence | +603 | Township of Washington.
| Approximately 1.11 miles downstream of the Rattling Creek confluence | +606
* National Geodetic Vertical Datum.
+ North American Vertical Datum.
# Depth in feet above ground.
‸ Mean Sea Level, rounded to the nearest 0.1 meter.
ADDRESSES
Borough of Steelton
Maps are available for inspection at the Borough Hall, 123 North Front Street, Steelton, PA 17113.
City of Harrisburg
Maps are available for inspection at the City Government Center, 10 North 2nd Street, Harrisburg, PA 17101.
Township of East Hanover
Maps are available for inspection at the East Hanover Township Municipal Building, 8848 Jonestown Road, Grantville, PA 17028.
Township of Jackson
Maps are available for inspection at the Jackson Township Building, 450 Bastion Road, Halifax, PA 17032.
Township of Lower Paxton
Maps are available for inspection at the Lower Paxton Township Municipal Building, 425 Prince Street, Harrisburg, PA 17109.
Township of Mifflin
Maps are available for inspection at the Mifflin Township Building, 3843 Shippen Dam Road, Millersburg, PA 17061.
Township of Washington
Maps are available for inspection at the Washington Township Municipal Building, 185 Manors Road, Elizabethville, PA 17023.
Wyoming County, Pennsylvania (All Jurisdictions)
Docket No.: FEMA-B-1185
Bowman Creek | Approximately 250 feet upstream of Keelersburg Road | +605 | Township of Eaton, Township of Monroe.
| Approximately 1.02 miles upstream of the most upstream crossing of State Route 29 (Joseph W. Hunter Highway) | +931
Buttermilk Creek | Approximately 1.1 miles downstream of State Route 2027 | +784 | Township of Falls.
| Approximately 460 feet upstream of Oak Drive | +961
South Branch Tunkhannock Creek | Approximately 0.4 mile downstream of State Route 2012 | +713 | Borough of Factoryville, Township of Clinton.
| Approximately 0.6 mile upstream of Church Street | +838
Susquehanna River | Approximately 1.0 mile upstream of the Falls/Exeter State Route 92 crossing | +585 | Township of North Moreland.
| Approximately 2.5 miles upstream of the Falls/Exeter State Route 92 crossing | +589
Swale Brook | At the downstream side of the railroad bridge | +609 | Borough of Tunkhannock, Township of Tunkhannock.
| Approximately 0.7 mile upstream of Bridge Street | +655
Tributary No. 1 to Swale Brook | At the Swale Brook confluence | +617 | Borough of Tunkhannock.
| Approximately 75 feet upstream of North Bridge Street | +723
Tunkhannock Creek | Approximately 425 feet downstream of the second U.S. Route 6 crossing | +609 | Township of Tunkhannock.
| Approximately 1.7 miles upstream of the most upstream U.S. Route 6 crossing | +643
* National Geodetic Vertical Datum.
+ North American Vertical Datum.
# Depth in feet above ground.
‸ Mean Sea Level, rounded to the nearest 0.1 meter.
ADDRESSES
Borough of Factoryville
Maps are available for inspection at the Borough Municipal Building, 161 College Avenue, Factoryville, PA 18419.
Borough of Tunkhannock
Maps are available for inspection at the Tunkhannock Borough Municipal Building, 126 Warren Street, Tunkhannock, PA 18657.
Township of Clinton
Maps are available for inspection at the Clinton Township Municipal Building, 256 Creek Road, Factoryville, PA 18419.
Township of Eaton
Maps are available for inspection at the Eaton Township Municipal Building, 1331 State Route 29 South, Tunkhannock, PA 18657.
Township of Falls
Maps are available for inspection at the Township Municipal Building, 220 Buttermilk Road, Falls, PA 18615.
Township of Monroe
Maps are available for inspection at the Monroe Township Municipal Building, 2605 State Route 29 South, Monroe, PA 18657.
Township of North Moreland
Maps are available for inspection at the North Moreland Township Municipal Building, 15 Municipal Lane, Dallas, PA 18612.
Township of Tunkhannock
Maps are available for inspection at the Tunkhannock Township Municipal Building, 113 Tunkhannock Township Drive, Tunkhannock, PA 18657.
Palo Pinto County, Texas, and Incorporated Areas
Docket No.: FEMA-B-1147 and FEMA-B-1216
Brazos River | Approximately 7.89 miles downstream of the confluence with Palo Pinto Creek | +768 | Unincorporated Areas of Palo Pinto County.
| Approximately 5.43 miles downstream of the confluence with Palo Pinto Creek | +773
Crystal Creek | Just upstream of 16th Street | +915 | City of Mineral Wells.
| Just upstream of 2nd Street | +960
Pollard Creek | Approximately 387 feet upstream of Ferguson Road | +836 | Unincorporated Areas of Palo Pinto County.
| Approximately 118 feet downstream of Pollard Park Road | +921
Pollard Creek Tributary No. 1 | Just upstream of Southwest 22nd Street | +844 | Unincorporated Areas of Palo Pinto County.
| Just downstream of Southwest 10th Street | +861
Pollard Creek Tributary No. 2 | Approximately 140 feet downstream of 2nd Street | +879 | Unincorporated Areas of Palo Pinto County.
| Approximately 1,250 feet upstream of 2nd Street | +882
Pollard Creek Tributary No. 5 | Approximately 850 feet upstream of Northeast 23rd Street | +1032 | Unincorporated Areas of Palo Pinto County.
| Just upstream of Northeast 23rd Street | +1049
Rock Creek | Just upstream of FM 1195 | +846 | Unincorporated Areas of Palo Pinto County.
| Approximately 0.82 mile upstream of FM 1195 | +857
Rock Creek Tributary No. 1 | Approximately 425 feet upstream of Northeast 23rd Street | +972 | Unincorporated Areas of Palo Pinto County.
| Approximately 600 feet upstream of Northeast 23rd Street | +972
Rock Creek Tributary No. 2 | At the upstream side of FM 1195 | +846 | Unincorporated Areas of Palo Pinto County.
| Approximately 0.64 mile downstream of Garrett Morris Parkway | +858
* National Geodetic Vertical Datum.
+ North American Vertical Datum.
# Depth in feet above ground.
‸ Mean Sea Level, rounded to the nearest 0.1 meter.
ADDRESSES
City of Mineral Wells
Maps are available for inspection at City Hall, 115 Southwest 1st Street, Mineral Wells, TX 76068.
Unincorporated Areas of Palo Pinto County
Maps are available for inspection at the Palo Pinto County Courthouse, 520 Oak Street, Palo Pinto, TX 76484.
Wirt County, West Virginia, and Incorporated Areas
Docket No.: FEMA-B-1188
Daley Run | Approximately 1,400 feet downstream of County Route 14/1 | +610 | Unincorporated Areas of Wirt County.
| Approximately 500 feet downstream of County Route 14/1 | +610
Little Kanawha River | Approximately 1.8 miles downstream of the Hughes River confluence | +610 | Unincorporated Areas of Wirt County.
| Approximately 4.2 miles downstream of the Hughes River confluence | +610
Little Kanawha River | Approximately 1.4 miles downstream of State Route 5 | +623 | Unincorporated Areas of Wirt County.
| Approximately 650 feet downstream of State Route 5 | +625
Tucker Creek | At the Little Kanawha River confluence | +623 | Unincorporated Areas of Wirt County.
| Approximately 1.1 miles upstream of the Little Kanawha River confluence | +623
* National Geodetic Vertical Datum.
+ North American Vertical Datum.
# Depth in feet above ground.
‸ Mean Sea Level, rounded to the nearest 0.1 meter.
ADDRESSES
Unincorporated Areas of Wirt County
Maps are available for inspection at the Wirt County Courthouse, Corner Court of Washington Street, Elizabeth, WV 26143.

(Catalog of Federal Domestic Assistance No. 97.022, “Flood Insurance.”)

Dated: July 19, 2012.
Sandra K. Knight,
Deputy Associate Administrator for Mitigation, Department of Homeland Security, Federal Emergency Management Agency.

[FR Doc. 2012-18668 Filed 7-30-12; 8:45 am]

BILLING CODE 9110-12-P